DEPARTMENT OF TRANSPORTATION

Federal Aviation Administration

[Docket No. FAA-2023-0741; Summary Notice No. 2023-39]

Petition for Exemption; Summary of Petition Received; Global Aviation Technologies

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before November 1, 2023.

ADDRESSES: Send comments identified by docket number FAA-2023-0741 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Deana Stedman, AIR-646, Federal Aviation Administration, phone (206) 231-3187, email deana.stedman@faa.gov.

This notice is published pursuant to 14 CFR 11.85.

Issued in Los Angeles, California, on October 3, 2023.
Thuan Nguyen,
Acting Manager, Technical Writing Section.

Petition for Exemption

Docket No.: FAA-2023-0741.

Petitioner: Global Aviation Technologies.

Section(s) of 14 CFR Affected: § 23.783(f)(1).

Description of Relief Sought: The petitioner has requested relief from § 23.783(f)(1), which requires that, for commuter category airplanes, each passenger entry door must qualify as a floor level emergency exit. This exit must have a rectangular opening of not less than 24 inches wide by 48 inches high, with corner radii not greater than one-third the width of the exit. The requested relief is for the Textron Model 390 airplane, Type Certificate A00010WI, which was certified as normal category. The petitioner's project would increase the gross weight of the airplane which would necessitate compliance with the requirements for commuter category airplanes.

[FR Doc. 2023-22446 Filed 10-11-23; 8:45 am]

BILLING CODE 4910-13-P